SMALL BUSINESS ADMINISTRATION

[Declaration of Economic Injury Disaster #9G20, Amdt. #1]

State of Washington

The above numbered declaration is hereby amended to include San Juan County in the State of Washington as an economic injury disaster loan area due to the effects of the warm water current known as El Nino beginning in 1997. All counties contiguous to the above-named county have been previously declared.

All other information remains the same, i.e., applications for economic injury may be filed until September 22, 2000 at the previously designated location.

(Catalog of Federal Domestic Assistance Program No. 59002.)
Dated: February 7, 2000.
Aida Alvarez,
Administrator.

[FR Doc. 00-4014 Filed 2-17-00; 8:45 am]

BILLING CODE 8025-01-P